DEPARTMENT OF LABOR

Employment and Training Administration

[TA-W-70,437]

Circuit Science, Inc., Including Workers Whose Unemployment Insurance (UI) Wages Are Reported Through Circuit Test; Plymouth, MN; Amended Certification Regarding Eligibility To Apply for Worker Adjustment Assistance

In accordance with Section 223 of the Trade Act of 1974, as amended (“Act”), 19 U.S.C. 2273, the Department of Labor issued a Certification of Eligibility to Apply for Worker Adjustment Assistance on November 30, 2009, applicable to workers of Circuit Science, Inc., Plymouth, Minnesota. The notice was published in the Federal Register on January 25, 2010 (75 FR 3929).

At the request of the state, the Department reviewed the certification for workers of the subject firm. The workers produced rigid printed circuit boards.

New information shows that Circuit Science, Inc. purchased Circuit Test and that some workers separated from employment at the subject firm had their wages reported under a separated unemployment insurance (UI) tax account under the name Circuit Test.

Accordingly, the Department is amending this certification to property reflect this matter.

The intent of the Department's certification is to include all workers of the subject firm who were adversely affected by increased imports of rigid printed circuit boards.

The amended notice applicable to TA-W-70,437 is hereby issued as follows:

All workers of Circuit Science, Inc., including workers whose unemployment insurance (UI) wages are reported through Circuit, Plymouth, Minnesota, who became totally or partially separated from who became totally or partially separated from employment on or after May 20, 2008 through November 30, 2011, and all workers in the group threatened with total or partial separation from employment on date of certification through two years from the date of certification, are eligible to apply for adjustment assistance under Chapter 2 of Title II of the Trade Act of 1974, as amended.

Signed at Washington, DC, this 27th day of May 2010.
Del Min Amy Chen,
Certifying Officer, Division of Trade Adjustment Assistance.

[FR Doc. 2010-14454 Filed 6-15-10; 8:45 am]

BILLING CODE 4510-FN-P